DEPARTMENT OF ENERGY

Environmental Management Site-Specific Advisory Board, Savannah River Site

AGENCY: Department of Energy.

ACTION: Notice of open meeting.

SUMMARY: This notice announces a meeting of the Environmental Management Site-Specific Advisory Board (EM SSAB), Savannah River Site. The Federal Advisory Committee Act (Pub. L. 92-463, 86 Stat. 770) requires that public notice of this meeting be announced in the Federal Register.

DATES:

Monday, March 28, 2016, 1:00 p.m.-5:00 p.m.

Tuesday, March 29, 2016, 8:30 a.m.-4:30 p.m.

ADDRESSES: Hilton Garden Inn, 1065 Stevens Creek Road, Augusta, GA 30907.

FOR FURTHER INFORMATION CONTACT: James Giusti, Office of External Affairs, Department of Energy, Savannah River Operations Office, P.O. Box A, Aiken, SC 29802; Phone: (803) 952-7684.

SUPPLEMENTARY INFORMATION:

Purpose of the Board: The purpose of the Board is to make recommendations to DOE-EM and site management in the areas of environmental restoration, waste management, and related activities.

Tentative Agenda:

Monday, March 28, 2016

Opening and Agenda Review

Work Plan Update

Combined Committees Session

Order of committees:

• Facilities Disposition & Site Remediation

• Administrative & Outreach

• Nuclear Materials

• Waste Management

• Strategic & Legacy Management

Public Comments

Adjourn

Tuesday, March 29, 2016

Opening, Chair Update, and Agenda Review

Agency Updates

Public Comments

Break

Presentation

Lunch Break

Administrative & Outreach Committee Update

Facilities Disposition & Site Remediation Committee Update

• Understanding Risk: Expressing Concentrations Presentation

Waste Management Committee Update

• Robotics Presentation

Break (with Robotics Demonstration Outside)

Nuclear Materials Committee Update

Strategic & Legacy Management Committee Update

• 2015 and 2016 Performance Metrics Presentation

Public Comments

Adjourn

Public Participation: The EM SSAB, Savannah River Site, welcomes the attendance of the public at its advisory committee meetings and will make every effort to accommodate persons with physical disabilities or special needs. If you require special accommodations due to a disability, please contact James Giusti at least seven days in advance of the meeting at the phone number listed above. Written statements may be filed with the Board either before or after the meeting. Individuals who wish to make oral statements pertaining to agenda items should contact James Giusti's office at the address or telephone listed above. Requests must be received five days prior to the meeting and reasonable provision will be made to include the presentation in the agenda. The Deputy Designated Federal Officer is empowered to conduct the meeting in a fashion that will facilitate the orderly conduct of business. Individuals wishing to make public comments will be provided a maximum of five minutes to present their comments.

Minutes: Minutes will be available by writing or calling James Giusti at the address or phone number listed above. Minutes will also be available at the following Web site: http://cab.srs.gov/srs-cab.html.

Issued at Washington, DC, on March 3, 2016.
LaTanya R. Butler,
Deputy Committee Management Officer.

[FR Doc. 2016-05286 Filed 3-8-16; 8:45 am]

BILLING CODE 6450-01-P